SECURITIES AND EXCHANGE COMMISSION

[SEC File No. 270-335, OMB Control No. 3235-0381]

Submission for OMB Review; Comment Request; Extension: Form 40-F

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form 40-F (17 CFR 249.240f) is used by certain Canadian issuers to register a class of securities pursuant to Section 12(b) or (g) of the Securities Exchange Act of 1934 (“Exchange Act”)(15 U.S.C. 78l) or as an annual report pursuant to Section 13(a) or 15(d) of the Exchange Act (15 U.S.C. 78m(a) or 78o(d)). The information required in the Form 40-F is used by investors in making investment decisions with respect to the securities of such Canadian companies. We estimate that Form 40-F takes approximately 431.42 hours per response and is filed by approximately 132 respondents. We estimate that 25% of the 431.42 hours per response (107.855 hours) is prepared by the issuer for a total reporting burden of 14,237 (107.855 hours per response × 132 responses).

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o John Pezzullo, 100 F Street NE, Washington, DC 20549, or by sending an email to: PRA_Mailbox@sec.gov.

Dated: December 28, 2021.
J. Matthew DeLesDernier,
Assistant Secretary.

[FR Doc. 2021-28438 Filed 12-30-21; 8:45 am]

BILLING CODE 8011-01-P